DEPARTMENT OF THE INTERIOR

National Park Service

[NPS-WASO-NAGPRA-NPS0035513; PPWOCRADN0-PCU00RP14.R50000]

Notice of Inventory Completion: C.H. Nash Memorial Museum/Chucalissa Archaeological Museum, University of Memphis, Memphis, TN

AGENCY: National Park Service, Interior.

ACTION: Notice.

SUMMARY: The C.H. Nash Memorial Museum/Chucalissa Archaeological Museum (Nash Museum) has completed an inventory of human remains and associated funerary objects, in consultation with the appropriate Indian tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Nash Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Nash Museum at the address in this notice by April 20, 2023.

FOR FURTHER INFORMATION CONTACT: Melissa Buchner, C.H. Nash Memorial Museum/Chucalissa Archaeological Museum, University of Memphis, 1987 Indian Village Drive, Memphis, TN 38109, telephone (901) 785-3160, email chucalissa@memphis.edu.

SUPPLEMENTARY INFORMATION: Notice is here given in accordance with the Native American Graves Protection and Repatriation Act (NAGPRA), 25 U.S.C. 3003, of the completion of an inventory of human remains and associated funerary objects under the control of the C.H. Nash Memorial Museum/Chucalissa Archaeological Museum, University of Memphis, Memphis, TN. The human remains and associated funerary objects were removed from the Chucalissa site (40SY1) in Shelby County, TN.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Nash Museum professional staff in consultation with representatives of the Eastern Band of Cherokee Indians; Quapaw Nation (previously listed as The Quapaw Tribe of Indians); The Chickasaw Nation; The Muscogee (Creek) Nation; and the United Keetoowah Band of Cherokee Indians in Oklahoma (hereafter referred to as “The Consulted Tribes”).

History and Description of the Remains

In 1964, human remains representing, at minimum, four individuals were removed from Unit 1 of the Chucalissa site, 40SY1, in Shelby County, TN. The human remains were excavated by Nash Museum staff. The human remains (40SY1-1/B-1, 40SY1-1/B-2, 40SY1-1/639, 40SY1-1/NC-1) belong to one female adult; one subadult of unknown sex; and two individuals of unknown age and sex. No known individuals were identified. The 40 associated funerary objects include one whole ceramic vessel, one ceramic vessel section, four lithics, five miscellaneous animal bone fragments, 18 ceramic sherds, 10 pieces of daub, and one piece of charcoal.

Between 1955 and 1974, human remains representing, at minimum, 20 individuals were removed from Unit 2 of the Chucalissa site, 40SY1, in Shelby County, TN. The human remains were excavated by C.H. Nash Museum at Chucalissa staff. The human remains (40SY1-2/B-1, 40SY1-2/B-2, 40SY1-2/B-3, 40SY1-2/B-3A, 40SY1-2/B-4, 40SY1-2/B-5, 40SY1-2/B-6, 40SY1-2/B-7, 40SY1-2/B-8, 40SY1-2/B-9, 40SY1-2/B-10, 40SY1-2/B-11, 40SY1-2/B-12, 40SY1-2/B-13, 40SY1-2/B-14, 40SY1-2/B-15, 40SY1-2/69, 40SY1-2/110-1, 40SY1-2/NC-1) belong to five female adults; four male adults; nine subadults of unknown sex; and two individuals of unknown age and sex. No known individuals were identified. The 121 associated funerary objects include seven whole ceramic vessels, four ceramic vessel sections, one abrader, 19 ceramic sherds, one sample of carbonized corn cobs, two pebbles, 30 pieces of daub, 56 miscellaneous animal bone fragments, and one piece of iron-oxide sandstone.

The Chucalissa site (40SY1) was occupied during the Mississippian period (ca. 1000—1550 C.E.). Although the cultural affiliation of prehistoric inhabitants of the area is unknown, the Unit 1 (40SY1-1) and Unit 2 (40SY1-2) burials and associated funerary objects date to the Walls Phase occupation of the site (ca. 1400—1540 C.E.). Archeological and anthropological evidence support a cultural affiliation of the Quapaw with late precontact and early post contact polities in the northern Lower Mississippi Valley. The cultural affiliation of the human remains and associated funerary objects from the Chucalissa site (40SY1) with the Quapaw Nation is also supported by material cultural, ethnohistoric, and linguistic evidence.

Beginning in 1955, and later, during museum construction projects in the 1960s through the 1980s, human remains representing, at minimum, 94 individuals were removed from Unit 3 of the Chucalissa site, 40SY1, in Shelby County, TN. The human remains were excavated by Nash Museum staff. The human remains (40SY1-3/B-1, 40SY1-3/B-4, 40SY1-3/B-6, 40SY1-3/B-7, 40SY1-3/B-8, 40SY1-3/B-9, 40SY1-3/B-10, 40SY1-3/B-11, 40SY1-3/B-14, 40SY1-3/B-15, 40SY1-3/B-16, 40SY1-3/B-17, 40SY1-3/B-18, 40SY1-3/B-19, 40SY1-3/B-20, 40SY1-3/B-21, 40SY1-3/B-22, 40SY1-3/B-23, 40SY1-3/B-24, 40SY1-3/B-24B, 40SY1-3/B-25, 40SY1-3/B-26A, 40SY1-3/B-26B, 40SY1-3/B-27, 40SY1-3/B-30, 40SY1-3/B-31, 40SY1-3/B-32, 40SY1-3/B-33, 40SY1-3/B-34, 40SY1-3/B-35, 40SY1-3/B-36, 40SY1-3/B-37, 40SY1-3/B-38, 40SY1-3/B-39, 40SY1-3/B-40, 40SY1-3/B-41, 40SY1-3/B-42A, 40SY1-3/B-42B, 40SY1-3/B-43, 40SY1-3/B-44, 40SY1-3/B-45, 40SY1-3/B-46, 40SY1-3/B-47, 40SY1-3/B-48, 40SY1-3/B-49, 40SY1-3/B-50, 40SY1-3/B-51, 40SY1-3/B-52, 40SY1-3/B-53,40SY1-3/B-54, 40SY1-3/B-55, 40SY1-3/B-56, 40SY1-3/B-57, 40SY1-3/B-59, 40SY1-3/B-60, 40SY1-3/B-61, 40SY1-3/B-62, 40SY1-3/B-63, 40SY1-3/B-64, 40SY1-3/B-65, 40SY1-3/B-66, 40SY1-3/B-67, 40SY1-3/B-68, 40SY1-3/B-69, 40SY1-3/B-71, 40SY1-3/B-72, 40SY1-3/B-73, 40SY1-3/B-73A, 40SY1-3/B-73B, 40SY1-3/B-73C, 40SY1-3/B-74, 40SY1-3/B-75, 40SY1-3/508-1, 40SY1-3/531, 40SY1-3/573, 40SY1-3/574, 40SY1-3/575, 40SY1-3/576, 40SY1-3/577, 40SY1-3/666-1, 40SY1-3/1283, 40SY1-3/1354, 40SY1-3/NC-1, 40SY1-3/NC-2, 40SY1-3/NC-3, 40SY1-3/NC-4, 40SY1-3/NC-5) belong to 21 female adults; 17 male adults; nine adults of unknown sex; 39 subadults of unknown sex; and eight individuals of unknown age and sex. No known individuals were identified. The 144 associated funerary objects include 29 ceramic vessels, three ceramic vessel sections, one stone projectile point, two shell earplugs, two shell gorgets, three shell beads, six mussel shell spoon fragments, one vial of hematite, three bone awls, one worked animal bone, one stone biface, one fossilized marine shell, one antler tine, 11 antler tine projectile points, 26 ceramic sherds, 17 miscellaneous animal bone fragments, seven fish bones, three unidentified artifacts, 13 pieces of daub, one piece of concretion, one bag of burial fill, one replica shell gorget, four replica shell earplug fragments, one piece of limonite, two pieces of chert, one lithic, one turtle carapace fragment, and one burned animal bone fragment.

Between 1957 and 1981, human remains representing, at minimum, 100 individuals were removed from Unit 6 of the Chucalissa site, 40SY1, in Shelby County, TN. The human remains were excavated by the Tennessee Department of Conservation and Nash Museum staff. The human remains (40SY1-6/B-1, 40SY1-5/B-2A-B, 40SY1-6/B-3, 40SY1-6/B-4, 40SY1-6/B-5, 40SY1-6/B-6, 40SY1-6/B-7, 40SY1-6/B-8, 40SY1-6/B-9, 40SY1-6/B-10, 40SY1-6/B-11, 40SY1-6/B-12, 40SY1-6/B-13, 40SY1-6/B-14, 40SY1-6/B-15, 40SY1-6/B-16, 40SY1-6/B-17A-B, 40SY1-6/B-18, 40SY1-6/B-19, 40SY1-6/B-20, 40SY1-6/B-21, 40SY1-6/B-22, 40SY1-6/B-23, 40SY1-6/B-24, 40SY1-6/B-25, 40SY1-6/B-26, 40SY1-6/B-27, 40SY1-6/B-28, 40SY1-6/B-29, 40SY1-6/B-30, 40SY1-6/B-31, 40SY1-6/B-32, 40SY1-6/B-33, 40SY1-6/B-34, 40SY1-6/B-35, 40SY1-6/B-36, 40SY1-6/B-38, 40SY1-6/B39, 40SY1-6/B-40, 40SY1-6/B-41, 40SY1-6/B-42, 40SY1-6/B-43, 40SY1-6/B-44, 40SY1-6/B-45, 40SY1-6/B-46, 40SY1-6/B-46B, 40SY1-6/B-47, 40SY1-6/B-48, 40SY1-6/B-49, 40SY1-6/B-50, 40SY1-6/B-51, 40SY1-6/B-51A, 40SY1-/B-51B, 40SY1-6/B-52, 40SY1-6/B-53, 40SY1-6/B-54, 40SY1-6/B-55, 40SY1-6/B-56, 40SY1-6/B-57, 40SY1-6/B-58, 40SY1-6/B-59, 40SY1-6/B-60, 40SY1-6/B-60B, 40SY1-6/B-61, 40SY1-6/B-62, 40SY1-6/B-63, 40SY1-6/B-64, 40SY1-6/B-65, 40SY1-6/B-66, 40SY1-6/B-67, 40SY1-6/B-68, 40SY1-6/B-69, 40SY1-6/B-70, 40SY1-6/B-71, 40SY1-6/B-72, 40SY1-6/B-73, 40SY1-6/56A, 40SY1-6/391A, 40SY1-6/391B, 40SY1-6/391C, 40SY1-6/512, 40SY1-6/1636-1, 40SY1-6/2402, 40SY1-6/2403, 40SY1-6/2404, 40SY1-6/4224, 40SY1-6/4468, 40SY1-6/4487, 40SY1-6/5103, 40SY1-6/5775, 40SY1-6/6345, 40SY1-6/6548, 40SY1-6/NC-1) belong to 20 female adults; 19 male adults; 10 adults of unknown sex; 37 subadults of unknown sex; and 14 individuals of unknown age and sex. No known individuals were identified. The 357 associated funerary objects are 12 whole ceramic vessels, 10 ceramic vessel sections, seven crinoid stem beads, one bone awl, one stone projectile point, 74 lots of miscellaneous animal bone fragments, one animal tooth, one gar scale, one abrader, one piece of limonite, 13 pottery sherds, one ceramic disc, seven mussel shell fragments, one complete mussel shell, one mussel shell disc, 64 lots of daub, 122 lots of daub/fired clay, 16 pieces of fired clay, nine pieces of fired clay/dirt, one broken rock, four pebbles, two lithics, two soil samples, and five pieces of charcoal.

The Chucalissa site (40SY1) was occupied during the Mississippian period (ca. 1000-1550 C.E.). Although the cultural affiliation of prehistoric inhabitants of the area is unknown, most of the Unit 3 (40SY1-3) and Unit 6 (40SY1-6) human remains and associated funerary objects date to the Boxtown Phase (ca. 1250-1400 C.E.) or Walls Phase (ca. 1400-1540 C.E.); some burials and associated funerary objects were recovered from Stratum IV, where evidence indicates an earlier occupation phase, such as Mitchell or Ensley (ca. 900-1250 C.E. and pre-900 C.E.). Archeological and anthropological evidence support a cultural affiliation of the Quapaw with late precontact and early post contact polities in the northern Lower Mississippi Valley. The cultural affiliation of the human remains and associated funerary objects from the Chucalissa site (40SY1) with the Quapaw Nation is also supported by material cultural, ethnohistoric, and linguistic evidence.

Between 1959 and 1967, human remains representing, at minimum, 108 individuals were removed from Unit 4 of the Chucalissa site, 40SY1, in Shelby County, TN. The human remains were excavated by the Tennessee Department of Conservation and Nash Museum staff. The human remains (40SY1-4/B-1, 40SY1-4/B-1 NC, 40SY1-4/B-2, 40SY1-4/B-2 NC, 40SY1-4/B-3, 40SY1-4/B-3 NC, 40SY1-4/B-4, 40SY1-4/B-4 NC, 40SY1-4/B-5, 40SY1-4/B-5 NC, 40SY1-4/B-6, 40SY1-4/B-6 NC, 40SY1-4/B-7, 40SY1-4/B-7 NC, 40SY1-4/B-8, 40SY1-4/B-10A, 40SY1-4/B-10B, 40SY1-4/B-11, 40SY1-4/B-11 NC, 40SY1-4/B-12, 40SY1-4/T-1, 40SY1-4/T-2, 40SY1-4/T-3, 40SY1-4/T-4, 40SY1-4/22, 40SY1-4/34, 40SY1-4/53, 40SY1-4/54, 40SY1-4/56, 40SY1-4/57, 40SY1-4/58, 40SY1-4/60, 40SY1-4/69, 40SY1-4/70, 40SY1-4/71, 40SY1-4/72, 40SY1-4/73, 40SY1-4/74, 40SY1-4/75, 40SY1-4/78, 40SY1-4/79, 40SY1-4/80, 40SY1-4/81, 40SY1-4/83, 40SY1-4/84, 40SY1-4/86, 40SY1-4/87-2, 40SY1-4/90, 40SY1-4/92, 40SY1-4/95, 40SY1-4/101, 40SY1-4/102, 40SY1-4/103, 40SY1-4/117, 40SY1-4/122, 40SY1-4/124, 40SY1-4/125, 40SY1-4/132c, 40SY1-4/134, 40SY1-4/139, 40SY1-4/142, 40SY1-4/146, 40SY1-4/147, 40SY1-4/148, 40SY1-4/149, 40SY1-4/151, 40SY1-4/153, 40SY1-4/154, 40SY1-4/155, 40SY1-4/156, 40SY1-4/NC-2, 40SY1-4/NC-3) belong to three female adults; 11 male adults; 73 adults of unknown sex; five subadults of unknown sex; and 16 individuals of unknown age and sex. No known individuals were identified. The 10 associated funerary objects include two bone awls, two antler flakers, two pieces of hematite, one ceramic disc, and three turtle shell fragments.

The Chucalissa site (40SY1) was occupied during the Mississippian period (ca. 1000-1550 C.E.). Although the cultural affiliation of prehistoric inhabitants of the area is unknown, the archeological evidence from the Unit 4 (40SY1-4) human remains and associated funerary objects indicates a date range beginning with the Late Woodland and Mississippi periods/Ensley phase (i.e., pre-900 C.E.) and continuing through the Mitchell (ca. 900-1250 C.E.), Boxtown (ca. 1250-1400), and Walls (ca. 1250-1540 C.E.) phases. Archeological and anthropological evidence support a cultural affiliation of the Quapaw with late precontact and early post contact polities in the northern Lower Mississippi Valley. The cultural affiliation of the human remains and associated funerary objects from the Chucalissa site (40SY1) with the Quapaw Nation is also supported by material cultural, ethnohistoric, and linguistic evidence.

Between 1959 and 1972, human remains representing, at minimum, eight individuals were removed from Unit 5 of the Chucalissa site, 40SY1, in Shelby County, TN. The human remains were excavated by the Tennessee Department of Conservation and Nash Museum staff. The human remains (40SY1-5/B-1, 40SY1-5/100, 40SY1-5/585-1, 40SY1-5/593-1, 40SY1-5/748A, 40SY1-5/753B, 40SY1-5/1144-1, 40SY1-5/1266) belong to one female adult; six adults of unknown sex; and one individual of unknown age and sex. No known individuals were identified. The one associated funerary object is a ceramic bottle.

The Chucalissa site (40SY1) was occupied during the Mississippian period (ca. 1000-1550 C.E.). Although the cultural affiliation of prehistoric inhabitants of the area is unknown, the datable Unit 5 (40SY1-5) burials and associated funerary objects belong to the Walls Phase (ca. 1250-1540 C.E.). Archeological and anthropological evidence support a cultural affiliation of the Quapaw with late precontact and early post contact polities in the northern Lower Mississippi Valley. The cultural affiliation of the human remains and associated funerary objects from the Chucalissa site (40SY1) with the Quapaw Nation is also supported by material cultural, ethnohistoric, and linguistic evidence.

Between 1952 and 1953, human remains representing, at minimum, 19 individuals were removed from Unit 6 of the Chucalissa site, 40SY1, in Shelby County, TN. The human remains were excavated by the Memphis Archaeological and Geological Society (MAGS) for the Tennessee Department of Conservation. After excavation, these human remains were curated at the Memphis Pink Palace Museum, which donated the collection to the Nash Museum between 1956 and 1974. The human remains (40SY1-6MA/B-1, 40SY1-6MA/B-2, 40SY1-6MA/B-3, 40SY1-6MA/B-4, 40SY1-6MA/B-5, 40SY1-6MA/B-6, 40SY1-6MA/B-A, 40SY1-6MA/B-B, 40SY1-6MA/B-C, 40SY1-6MA/B-D, 40SY1-6MA/B-E, 40SY1-6MA/B-F, 40SY1-6MA/B-G, 40SY1-6MA/B-H, 40SY1-6MA/90, 40SY1-6MA/91) belong to two adult females; one adult male; three adults of unknown sex; six subadults of unknown sex; and seven individuals of unknown age and sex. No known individuals were identified. The 59 associated funerary objects are one whole ceramic vessel, two ceramic vessel sections, 43 miscellaneous animal bone fragments, two worked animal bones, eight pieces of daub, two lithics, and one pottery sherd.

The Chucalissa site (40SY1) was occupied during the Mississippian period (ca. 1000-1550 C.E.). Although the cultural affiliation of prehistoric inhabitants of the area is unknown, the datable Unit 6 (40SY1-6MA) burials and associated funerary objects date to the Boxtown Phase (ca. 1250-1400 C.E.) and Walls Phase (ca. 1400-1540 C.E.). Archeological and anthropological evidence support a cultural affiliation of the Quapaw with late precontact and early post contact polities in the northern Lower Mississippi Valley. The cultural affiliation of the human remains and associated funerary objects from the Chucalissa site (40SY1) with the Quapaw Nation is also supported by material cultural, ethnohistoric, and linguistic evidence.

Sometime prior to 1985, human remains representing, at minimum, three individuals were removed from Unit 12 of the Chucalissa site, 40SY1, in Shelby County, TN. The human remains were excavated by the Tennessee Department of Conservation and Nash Museum staff. The human remains (40SY1-12/B-1, 40SY1-12/NC-1, 40SY1-12/NC-2) belong to one female adult and two individuals of unknown age and sex. No known individuals were identified. The one associated funerary object is a pottery sherd.

Sometime prior to 1960, human remains representing, at minimum, three individuals were removed from either Unit 3 or Unit 6 of the Chucalissa site, 40SY1, in Shelby County, TN. The human remains were excavated by the Tennessee Department of Conservation and Nash Museum staff. The human remains (S1955.01.03/.06) belong to one adult and two subadults. No known individuals were identified. No associated funerary objects are present.

On an unknown date, human remains representing, at minimum, four individuals were removed from the Chucalissa site, 40SY1, in Shelby County, TN. The human remains were surface collected by Nash Museum staff. The human remains (40SY1/NC-1, 40SY1/NC-2, 40SY1/NC-3) belong to four individuals of unknown age and sex. No known individuals were identified. No associated funerary objects are present.

On an unknown date, human remains representing, at minimum, 10 individuals were removed from the North Slope of the Chucalissa site, 40SY1, in Shelby County, TN. The human remains were found by Nash Museum staff. The human remains (40SY1/NA-A, 40SY1/NA-B, 40SY1/NA-C, 40SY1/NA-D, 40SY1/NA-E, 40SY1/NA-F, 40SY1/NA-G, 40SY1/NA-H, 40SY1/NA-J) belong to 10 individuals of unknown age and sex. No known individuals were identified. No associated funerary objects are present.

On an unknown date, human remains representing, at minimum, two individuals were removed from the Chucalissa site, 40SY1, in Shelby County, TN. The human remains were found by Nash Museum staff. The human remains (40SY1/NA-K, 40SY1/NA-L) belong to two individuals of unknown age and sex. No known individuals were identified. No associated funerary objects are present.

The Chucalissa site (40SY1) was occupied during the Mississippian period (ca. 1000-1550 C.E.). Although the human remains and associated funerary objects from Unit 12 (40SY1-12) and Unit 3/6 (40SY1-3/6), as well as those human remains that were surface collected from the Chucalissa site (40SY1) or found on the site, cannot be assigned a date, the archeological evidence at the Chucalissa site (40SY1) suggests they date range beginning with the Late Woodland and Mississippi periods/Ensley phase (pre-900 C.E.) and continuing through the Mitchell (ca. 900-1250 C.E.), Boxtown (ca. 1250-1400), and Walls (ca. 1250-1540 C.E.) phases. Archeological and anthropological evidence support a cultural affiliation of the Quapaw with late precontact and early post contact polities in the northern Lower Mississippi Valley. The cultural affiliation of the human remains and associated funerary objects from the Chucalissa site (40SY1) with the Quapaw Nation is also supported by material cultural, ethnohistoric, and linguistic evidence.

Determinations Made by the C.H. Nash Memorial Museum/Chucalissa Archaeological Museum, University of Memphis

Officials of the C.H. Nash Memorial Museum/Chucalissa Archaeological Museum, University of Memphis have determined that:

• Pursuant to 25 U.S.C. 3001(9), the human remains described in this notice represent the physical remains of 375 individuals of Native American ancestry.

• Pursuant to 25 U.S.C. 3001(3)(A), the 733 objects described in this notice are reasonably believed to have been placed with or near individual human remains at the time of death or later as part of the death rite or ceremony.

• Pursuant to 25 U.S.C. 3001(2), there is a relationship of shared group identity that can be reasonably traced between the Native American human remains and associated funerary objects and the Quapaw Nation (previously listed as The Quapaw Tribe of Indians).

Additional Requestors and Disposition

Lineal descendants or representatives of any Indian Tribe or Native Hawaiian organization not identified in this notice that wish to request transfer of control of these human remains and associated funerary objects should submit a written request with information in support of the request to Melissa Buchner, C.H. Nash Memorial Museum/Chucalissa Archaeological Museum, University of Memphis, 1987 Indian Village Drive, Memphis, TN 38109, telephone (901) 785-3160, email chucalissa@memphis.edu, by April 20, 2023. After that date, if no additional requestors have come forward, transfer of control of the human remains and associated funerary objects to the Quapaw Nation (previously listed as The Quapaw Tribe of Indians) may proceed.

The C.H. Nash Memorial Museum/Chucalissa Archaeological Museum is responsible for notifying The Consulted Tribes that this notice has been published.

Dated: March 15, 2023.
Melanie O'Brien,
Manager, National NAGPRA Program.

[FR Doc. 2023-05733 Filed 3-20-23; 8:45 am]

BILLING CODE 4312-52-P